DEPARTMENT OF TRANSPORTATION

Office of the Secretary

Notice of Applications for Certificates of Public Convenience and Necessity and Foreign Air Carrier Permits Filed Under Subpart Q During the Week Ending June 23, 2000

The following Applications for Certificates of Public Convenience and Necessity and Foreign Air Carrier Permits were filed under Subpart Q of the Department of Transportation's Procedural Regulations (See 14 CFR 302.1701 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2000-7546.

Date Filed: June 19, 2000.

Due Date for Answers, Conforming Applications, or Motion to Modify Scope: July 10, 2000.

Description: Application of Swissjet, Inc. pursuant to 49 U.S.C. 41102 and subpart. Q, applies for a Certificate of Public Convenience and Necessity to authorize Swissjet to engage in foreign charter air transportation of persons, property and mail.

Docket Number: OST-2000-7547.

Date Filed: June 19, 2000.

Due Date for Answers, Conforming Applications, or Motion to Modify Scope: July 10, 2000.

Description: Application of Swissjet Inc. pursuant to 49 U.S.C. 41102 and subpart Q, applies for a Certificate of Public Convenience and Necessity to authorize Swissjet to engage in interstate charter air transportation of persons, property and mail.

Docket Number: OST-2000-7548.

Date Filed: June 19, 2000.

Due Date for Answers, Conforming Applications, or Motion to Modify Scope: July 10, 2000.

Description: Application of Continental Airlines, Inc. pursuant to 49 U.S.C. 41102 and subpart B, applies for renewal of its Route 682 certificate authorizing Continental to provide scheduled air transportation of persons, property and mail between Newark, New Jersey, and Lima, Peru, via the intermediate point Bogota, Colombia.

Dorothy Y. Beard,
Federal Register Liaison.

[FR Doc. 00-16824 Filed 7-3-00; 8:45 am]

BILLING CODE 4910-62-P